DEPARTMENT OF JUSTICE

Notice of Lodging of Proposed Consent Decree Under the Comprehensive Environmental Response, Compensation, and Liability Act

On March, 12, 2018, the Department of Justice lodged a proposed Consent Decree with the United States District Court for the District of Idaho in the lawsuit entitled United States of America v. Placer Mining Company, Inc. (dba New Bunker Hill Mining Co.) and Robert Hopper, Jr., Civil Action No. 2:04-cv-00126.

The Complaint initiating this matter seeks reimbursement of response costs incurred and to be incurred for response actions taken at or in connection with the release or threatened release of hazardous substances at the Bunker Hill Mine property in Kellogg, Idaho pursuant to Section 107 of the Comprehensive Environmental Response, Compensation, and Liability Act, 42 U.S.C. 9607 (CERCLA).

Under the proposed Consent Decree, Defendants have agreed to reimburse the United States over 80 percent of its costs incurred in connection with the Bunker Hill Mine property and have agreed to dismiss, with prejudice, Defendants' claims for damages in a certain Fifth Amendment “takings” case pending in the matter captioned Placer Mining Company, Inc. d/b/a/the New Bunker Hill Mining Co. v. United States in the Court of Federal Claims, Civil Case No. 01-27 L.

The publication of this notice opens a period for public comment on the Consent Decree. Comments should be addressed to the Assistant Attorney General, Environment and Natural Resources Division, and should refer to United States of America v. Placer Mining Company, Inc. (dba New Bunker Hill Mining Co.) and Robert Hopper, Jr., D.J. Ref. No. 90-11-3-128/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $28.25 (25 cents per page reproduction cost) payable to the United States Treasury.

Susan M. Akers,
Assistant Section Chief, Environmental Enforcement Section, Environment and Natural Resources Division.

[FR Doc. 2018-05469 Filed 3-16-18; 8:45 am]

BILLING CODE 4410-15-P